DEPARTMENT OF THE TREASURY

Submission for OMB Review; Comment Request

February 19, 2004.

The Department of Treasury has submitted the following public information collection requirement(s) to OMB for review and clearance under the Paperwork Reduction Act of 1995, Pub. L. 104-13. Copies of the submission(s) may be obtained by calling the Treasury Bureau Clearance Officer listed. Comments regarding this information collection should be addressed to the OMB reviewer listed and to the Treasury Department Clearance Officer, Department of the Treasury, Room 11000, 1750 Pennsylvania Avenue, NW., Washington, DC 20220.

DATES: Written comments should be received on or before March 26, 2004 to be assured of consideration.

Bureau of the Public Debt (PD)

OMB Number: 1535-0089.

Form Number: None.

Type of Review: Extension.

Title: Implementing Regulations: Government Securities Act of 1986, as amended.

Description: The regulations require certain government securities brokers/dealers to make and keep certain records concerning government securities activities, to submit financial reports and make certain disclosures to investors-part of customer protection and financial responsibilities.

Respondents: Business or other for-profit.

Estimated Number of Respondents/Recordkeepers: 4.039.

Estimated Burden Hours Per Respondent/Recordkeeper: Varies.

Frequency of Response: On occasion, Monthly, Quarterly, Annually.

Estimated Total Reporting/Recordkeeping Burden Hours: 363,957 hours.

Clearance Officer: Vicki S. Thorpe, Bureau of the Public Debt, 200 Third Street, Parkersburg, West VA 26106-1328, (304) 480-6553.

OMB Reviewer: Joseph F. Lackey, Jr., Office of Management and Budget, Room 10235, New Executive Office Building, Washington, DC 20503, (202) 395-7316.

Lois K. Holland,
Treasury PRA Clearance Officer.

[FR Doc. 04-4113 Filed 2-24-04; 8:45 am]

BILLING CODE 4810-39-P